NUCLEAR REGULATORY COMMISSION

[Docket No. NRC-2011-0160]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number. The NRC published a Federal Register notice with a 60-day comment period on this information collection on August 9, 2011 (76 FR 48908).

1. Type of submission, new, revision, or extension: New.

2. The title of the information collection: Employment Application System for Entry-Level Legal Positions.

3. Current OMB approval number: 3150-XXXX.

4. The form number if applicable: n/a.

How often the collection is required: On occasion.

5. Who will be required or asked to report: Applicants seeking employment through the NRC Office of the General Counsel Honor Law Graduate Program or Summer Internship Program.

6. An estimate of the number of annual responses: 1,500.

7. The estimated number of annual respondents: 1,500.

8. An estimate of the total number of hours needed annually to complete the requirement or request: 1,500.

9. Abstract: The NRC is seeking to implement a Web-based job application system that will allow the NRC Office of the General Counsel to track, manage, and interact with applicants seeking entry-level attorney positions through the Honor Law Graduate program or temporary, summer legal positions through the Summer Internship Program. Applicants seeking employment consideration will submit application materials, including cover letters, resumes, school transcripts, lists of references, and writing samples, via a Web-based interface. These application materials may contain names, addresses, phone numbers, email addresses, school information/grades, employment information/histories, and works of writing.

The public may examine and have copied for a fee publicly available documents, including the final supporting statement, at the NRC's PDR, Room O1-F21, One White Flint North, 11555 Rockville Pike, Rockville, Maryland 20852. OMB clearance requests are available at the NRC Web site: http://www.nrc.gov/public-involve/doc-comment/omb/index.html. The document will be available on the NRC home page site for 60 days after the signature date of this notice.

Comments and questions should be directed to the OMB reviewer listed below by December 7, 2011. Comments received after this date will be considered if it is practical to do so, but assurance of consideration cannot be given to comments received after this date.

Chad Whiteman, Desk Officer, Office of Information and Regulatory Affairs (3150-XXXX), NEOB-10202, Office of Management and Budget, Washington, DC 20503.

Comments can also be emailed to CWhiteman@omb.eop.gov or submitted by telephone at (202) 395-4718.

The NRC Clearance Officer is Tremaine Donnell, (301) 415-6258.

Dated at Rockville, Maryland, this 1st day of November, 2011.
For the Nuclear Regulatory Commission.
Tremaine Donnell,
NRC Clearance Officer, Office of Information Services.

[FR Doc. 2011-28733 Filed 11-4-11; 8:45 am]

BILLING CODE 7590-01-P